DEPARTMENT OF HEALTH AND HUMAN SERVICES

National Institutes of Health

Prospective Grant of an Exclusive Patent License: Computer-Aided Diagnosis of Prostate Cancer in Multi-Parametric MRI

AGENCY: National Institutes of Health, HHS.

ACTION: Notice.

SUMMARY: The National Cancer Institute and Clinical Center, institutes of the National Institutes of Health, Department of Health and Human Services, are contemplating the grant of an Exclusive Patent License to practice the inventions embodied in the U.S. Patents and Patent Applications listed in the SUPPLEMENTARY INFORMATION section of this notice to ScanMed, LLC located in Omaha, NE.

DATES: Only written comments and/or applications for a license which are received by the National Cancer Institute's Technology Transfer Center on or before November 9, 2017 will be considered.

ADDRESSES: Requests for copies of the patent application, inquiries, and comments relating to the contemplated Exclusive Patent License should be directed to: Tedd Fenn, Senior Technology Transfer Manager, NCI Technology Transfer Center, 9609 Medical Center Drive, RM 1E530 MSC 9702, Bethesda, MD 20892-9702 (for business mail), Rockville, MD 20850-9702, Telephone: (240)-276-5530; Facsimile: (240)-276-5504, Email: Tedd.Fenn@nih.gov.

SUPPLEMENTARY INFORMATION:

Intellectual Property

United States Provisional Patent Application No. 62/462,256 filed February 22, 2017 “Computer-Aided Diagnosis of Prostate Cancer in Multi-parametric MRI”

The prospective exclusive license territory may be worldwide and the field of use may be limited to the use of Licensed Patent Rights for the following: “Class II or III computer-assisted diagnostics systems for use with Magnetic Resonance Imaging, of the anatomy of the prostate.”

The subject technology is an automated computer assisted diagnostic system for processing and visualizing prostate lesions on MRI. The system uses specialized algorithms (an ensemble of multiple random decision trees, Random Forest) that is trained against: (1) Hand drawn contours, (2) recorded biopsy results, and (3) normal cases from randomly sampled patient images weighted for lesion size. The system produces a probability map of potential cancerous lesions in multiparametric MRI.

This notice is made in accordance with 35 U.S.C. 209 and 37 CFR part 404. The prospective exclusive license will be royalty bearing, and the prospective exclusive license may be granted unless within fifteen (15) days from the date of this published notice, the National Cancer Institute receives written evidence and argument that establishes that the grant of the license would not be consistent with the requirements of 35 U.S.C. 209 and 37 CFR part 404.

Complete applications for a license in the prospective field of use that are filed in response to this notice within the 15 days of this notice, will be treated as objections to the grant of the contemplated Exclusive Patent License Agreement. Comments and objections submitted to this notice will not be made available for public inspection and, to the extent permitted by law, will not be released under the Freedom of Information Act, 5 U.S.C. 552.

Dated: October 19, 2017.
Richard U. Rodriguez,
Associate Director, Technology Transfer Center, National Cancer Institute.

[FR Doc. 2017-23175 Filed 10-24-17; 8:45 am]

BILLING CODE 4140-01-P